DEPARTMENT OF HOMELAND SECURITY

Departmental Advisory Committee on Commercial Operations of the Bureau of Customs and Border Protection (“COAC”)

AGENCY: Department of Homeland Security.

ACTION: Notice of meeting.

SUMMARY: This notice announces the date, time, and location for the fourth meeting of the eighth term of the Departmental Advisory Committee on Commercial Operations of the Bureau of Customs and Border Protection (COAC), and the expected agenda for its consideration.

DATES: The next meeting of the COAC will be held on Tuesday, November 18, 2003 at 9 a.m. in the Horizon Room, Ronald Reagan Building, located at 1300 Pennsylvania, NW., Washington, DC 20229. The duration of the meeting will be approximately four hours.

FOR FURTHER INFORMATION CONTACT: Vetta Jeffries, Department of Homeland Security, 202-282-8468.

SUPPLEMENTARY INFORMATION: This meeting is open to the public. However, participation in the COAC's deliberations is limited to COAC members, Homeland Security and Treasury Department officials, and persons invited to attend the meeting for special presentations. All persons entering the building must be cleared by building security at least 72 hours in advance of the meeting. Personal data to obtain this clearance must be submitted to Vetta Jeffries, 202-282-8468, no later than 2 p.m. EST on Wednesday, November 12, 2003.

Agenda

The COAC is expected to pursue the following agenda, which may be modified prior to the meeting:

(1) Security Sub-Committee Report (Advance Manifest Rules, Free and Secure Trade (FAST program), Customs-Trade Partnership Against Terrorism and the Container Security Initiative (CTPAT and CSI), CBP Human Capital Plan).

(2) DHS Briefing on DHS Re-Organization.

(3) Other Issues (E-Rulings Project, CBP Participation on WTO Task Force for Global Security Standard, Customs Broker Exam, and Revision of Customs Forms).

Dated: October 29, 2003.
C. Stewart Verdery,
Assistant Secretary for Border and Transportation Security Policy and Planning.

[FR Doc. 03-27763 Filed 10-31-03; 4:44 pm]

BILLING CODE 4410-10-P